DEPARTMENT OF COMMERCE

Economic Development Administration

[Docket No. 991215339-1051-02]

RIN—0610-ZA14

Economic Development Assistance Programs_Availability of Funds Under the Public Works and Economic Development Act of 1965, as Amended and the Trade Act of 1974, as Amended

AGENCY: Economic Development Administration (EDA), Department of Commerce (DoC).

ACTION: Notice.

SUMMARY: The Economic Development Administration (EDA) announces the availability of funding, general policies and application procedures for projects that will alleviate conditions of substantial and persistent unemployment and underemployment and low per capita income in economically-distressed areas and regions of the Nation. Funding is also available to help communities adjust to actual or threatened sudden and severe economic dislocations, including major layoffs and plant closings, realignment of defense and energy facilities, natural disasters, trade impacts, and other forms of severe economic distress.

DATES: Unless otherwise noted below, proposals are accepted on a continuous basis and applications are invited and processed as funds become available. Normally, two months are required for a final decision after the receipt of a completed application that meets all EDA requirements.

ADDRESSES: Addresses for EDA's six regional offices and Washington office are provided in Section XIII. Addresses for Economic Development Representatives (EDRs) are listed under each regional office.

Important Note: Effective April l, 2001, the appendix to the current internet addresses listed throughout this notice will change from “@doc.gov” to “@eda.doc.gov.” We apologize for any inconvenience.

FOR FURTHER INFORMATION CONTACT: For national technical assistance, research, and trade adjustment assistance projects, please contact the appropriate program office as shown in Section IX and X, respectively. For community and regional economic development projects, contact EDA's Regional Office or the EDR for your area as shown in Section XIII.

SUPPLEMENTARY INFORMATION:

I. Funding Availability

Funding appropriated under Pub. L. 106-553 is available for economic development assistance programs authorized by the Public Works and Economic Development Act of 1965, as amended (PWEDA) and for trade adjustment assistance authorized under Title II, Chapters 3 and 5 of the Trade Act of 1974, as amended. Funds in the amount of $410,972,866 have been appropriated for FY 2001 and shall remain available until expended.

EDA receives and processes requests for funding on an ongoing basis, and has begun processing requests under the FY 2001 appropriation. New requests submitted that require approval during this fiscal year will face substantial competition.

II. General Policies

EDA encourages only those project proposals that will significantly benefit areas experiencing or threatened with substantial economic distress, and targets assistance to communities with the highest economic distress. Distress may exist in a variety of forms, including, but not limited to, high levels of unemployment, low income levels, large concentrations of low-income families, significant declines in per capita income, substantial loss of population because of the lack of employment opportunities, large numbers (or high rates) of business failures, sudden major layoffs or plant closures, military base closures, natural or other major disasters, depletion of natural resources, and/or reduced tax bases.

Potential applicants are responsible for demonstrating to EDA, by providing statistics and other appropriate information, the nature and level of the distress their project efforts are intended to alleviate. In the absence of evidence of high levels of distress, EDA funding is unlikely. EDA provides funding for eligible project activities through direct grants and cooperative agreements. EDA is not authorized to provide grants directly to individuals or to other for-profit entities seeking to start or expand a business. Such requests may be referred to State or local agencies, or to non-profit economic development organizations serving the project area.

EDA funding priorities are intended to implement statutory requirements and to reflect the priorities of the U.S. Department of Commerce. Unless otherwise noted below, the funding priorities listed here will be considered by the Selecting Official (depending upon the program, either the Regional Director or Assistant Secretary) after the project proposal has been evaluated based upon the criteria set forth in EDA regulations at 13 CFR Chapter III, (and 65 FR 71021, November 28, 2000, available on EDA's Web site at www.eda.gov). These priorities are roughly equivalent and none is more important than any of the others.

To the degree that one or more of the following funding priorities are included (or packaged together) in the proposal, the ability to obtain EDA assistance may be enhanced:

• Proposals to construct or rehabilitate essential public works and development facilities required to stabilize and diversify employment in economically distressed communities throughout the United States and its territories;

• Proposals to help communities plan and implement economic adjustment strategies in response to actual or threatened sudden and severe economic dislocations (e.g., major layoffs and/or plant closures, trade impacts, defense restructuring, natural disasters).

• Proposals that support sustainable development (i.e., promote the efficient use of resources without compromising the environment for future generations). Examples include the productive reuse of abandoned industrial facilities and the redevelopment of brownfields.

• Proposals that build local capacity for enterprise development in distressed communities (e.g., small business incubators, revolving loan funds, and other programs to support business start-ups, retention and expansion). This includes proposals that involve minority serving institutions and assistance to minority communities and businesses.

• Innovative proposals and partnerships, particularly those involving regional solutions to problems of high unemployment and low per capita income. Such projects will be given priority over proposals that are more limited in scope.

III. Authority

The authority for programs listed below in Parts IV through X is the Public Works and Economic Development Act of 1965, as amended (Pub. L. 89-136, 42 U.S.C. 3121, et seq) and as further amended by Pub. L. 105-393. The authority for the program listed in Part XII is Title II Chapters 3 and 5 of the Trade Act of 1974, as amended, (19 U.S.C. 2341-2355; 2391) (Trade Act), as amended by Pub. L. 105-119.

IV. Program: Public Works and Economic Development Assistance

(Catalog of Federal Domestic Assistance: 11.300 Economic Development-Grants for Public Works and Economic Development)

Funds in the amount of $286,069,260 have been appropriated for this program in FY 2001. The average funding level for a grant last fiscal year was $900,933.

V. Program: Planning—Planning Assistance for Economic Development Districts, Indian Tribes, States, and Other Planning Organizations

(Catalog of Federal Domestic Assistance: 11.302 Economic Development—Support for Planning Organizations)

Funds in the amount of $23,947,200 have been appropriated for the Planning program. In FY 2000 the average Economic Development District planning grant was $55,500; the average Indian planning grant was $46,000; and the average State and other planning organization grant was $68,800. EDA expects the majority of planning funds will be used for support to existing Economic Development District and Indian Tribe grantees. EDA has designated the Planning programs as multi- (up to three) year programs and expects similar levels of funding to be available annually in the second and third years. District, Indian tribes and other applicants for partnership planning grants under EDA's Planning programs may be invited to submit applications for multi-year awards, setting out the proposed budget and project activities for each year, up to three years. If accepted, such applications will simplify the application process in the subsequent year or years, although in each year approval of an award will be dependent upon continued satisfactory performance during the preceding period, the availability of program funds, and will be at EDA's sole discretion. It is EDA's intention to have the multi-year funding cycle coincide with the peer review cycle called for under Section 506 of PWEDA and 13 CFR 318.2. At the discretion of the Regional Office, other applicants, i.e., short-term grantees, for planning assistance may be invited to submit applications for up to a three-year period. Funding in FY 2002 and FY 2003 for other, i.e., short-term applicants, will be contingent upon the availability of funds from Congress, satisfactory performance, and at the sole discretion of EDA.

VI. Program: Technical Assistance-Local Technical Assistance; National Technical Assistance; and University Centers

(Catalog of Federal Domestic Assistance: 11.303 Economic Development-Technical Assistance)

Funds in the amount of $9,079,980 have been appropriated for the Technical Assistance programs of which approximately $1,482,000 is available for the Local Technical Assistance program; $1,098,980 for the National Technical Assistance program; and $6,499,000 for the University Center program. The average funding level in FY 2000 for Local Technical Assistance grants was $29,000; for National Technical Assistance grants, $74,000; and for University Center grants, $91,000.

EDA expects that most University Center funds will be used for support to existing University Centers. EDA has designated the University Center program as a multi- (up to three) year program and expects similar levels of funding to be available in each of the second and third years. Applicants under EDA's University Center Technical Assistance programs may be invited to submit applications for multi-year awards, setting out the proposed budget and project activities for each year, up to three years. If accepted, such applications will simplify the application process in the subsequent year or years, although in each year approval of an award will be dependent upon continued satisfactory performance during the preceding period, the availability of program funds, and will be at EDA's sole discretion. It is EDA's intention to have the multi-year funding cycle coincide with the peer review cycle called for under Section 506 of PWEDA and 13 CFR 318.1.

A separate FR Notice will set forth the specific funding priorities, application process, and time frames for certain National Technical Assistance projects.

VII. Program: Economic Adjustment Assistance

(Catalog of Federal Domestic Assistance: 11.307 Economic Adjustment Assistance)

Funds in the amount of $49,519,816 have been appropriated for this program. Of this amount, $13,500,000 is available for economic adjustment projects located in regions impacted by coal industry downsizing and timber industry issues and $3,019,816 is available for disaster mitigation and recovery.

The $3,019,816 for disaster mitigation and recovery will be available to support selected hazard prone communities (areas subject to natural disasters) including Project Impact communities (communities recognized for taking actions on their own to mitigate) designated by the Federal Emergency Management Agency (FEMA), for capacity building and mitigation activities in areas that are EDA eligible. In addition to the eligibility criteria set forth in EDA's regulation's at 13 CFR Chapter III (65 FR 71021, November 28, 2000) these communities must have experienced natural disasters or be located in natural hazard prone areas.

The average funding level for a regular economic adjustment grant last year was $206,000.

VIII. Program: Defense Economic Conversion

(Catalog of Federal Domestic Assistance: 11.307 Economic Adjustment Assistance; 11.300 Public Works and Economic Development Facilities; 11.302 Support for Planning Organizations; 11.303 Technical Assistance; 11.312 Research and Evaluation and 11.313 Trade Adjustment Assistance)

Funds in the amount of $31,380,810 have been appropriated for to support defense economic conversion under EDA's regular program funding authorities. The average funding level for a defense economic conversion grant last year was $1,119,000.

IX. Program: Research and Evaluation

(Catalog of Federal Domestic Assistance: 11.312 Economic Development—Research and Evaluation Program)

Funds in the amount of $498,900 have been appropriated for this program. The average funding level for a grant last fiscal year was $38,000.

A separate FR Notice will set forth the specific funding priorities, application process, and time frames for certain research and evaluation projects. For further information, contact:

John J. McNamee, Director, Research and National Technical Assistance Division, Economic Development Administration, Room 7019, U.S. Department of Commerce, Washington, DC 20230, Telephone: (202) 482-2309

X. Program: Trade Adjustment Assistance

(Catalog of Federal Domestic Assistance: 11.313 Economic Development—Trade Adjustment Assistance)

Funds in the amount of $10,476,900 have been appropriated for this program. The typical funding level for a grant last year was $875,000. For further information on this program contact:

Anthony J. Meyer, Coordinator, Trade Adjustment and Technical Assistance, Planning and Development Assistance Division, Economic Development Administration, Room 7317, U.S. Department of Commerce, Washington, DC 20230, Telephone: (202) 482-2127

XI. Other Information and Requirements

EDA regulations at 13 CFR Chapter III, (and 65 FR 71022 November 28, 2000) are available on the EDA Web site at www.doc.gov/eda. Certain Departmental and other requirements are noted below:

A. Projects are expected to be completed in a timely manner consistent with the nature of the project, and generally, are for a period of 12 to 15 months. For public works and most economic adjustment implementation grants, the maximum period for which assistance will be provided is generally not more than five years from the date of award.

B. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094. The EDA preapplication (ED-900P), and application (ED-900A), which incorporates the SF-424, are the forms in the EDA application kit, approved under the aforementioned OMB control number.

C. All primary applicants must submit a completed Form CD-511, “Certifications Regarding Debarment, Suspension and Other Responsibility Matters; Drug-Free Workplace Requirements and Lobbying,” and the following explanations are hereby provided:

Prospective participants (as defined at 15 CFR part 26, section 105) are subject to “Nonprocurement Debarment and Suspension” and the related section of the certification form prescribed above applies;

Grantees (as defined at 15 CFR part 26, section 605) are subject to 15 CFR part 26, Subpart F, “Drug-Free Workplace Requirements (Grants)” and the related section of the certification form prescribed above applies;

Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater.

D. Any applicant that has paid or will pay for lobbying using any funds must submit an SF-LLL, “Disclosure of Lobbying Activities,” as required under 15 CFR part 28, Appendix B.

E. The implementing regulations of the National Environmental Policy Act (NEPA) require EDA to provide public notice of the availability of project specific environmental documents such as environmental impact statements, environmental assessments, findings of no significant impact, records of decision etc., to the affected public as specified in 40 CFR 1506.6(b).

Depending on the project location, environmental information concerning specific projects can be obtained from the Regional Environmental Officer (REO) in the appropriate EDA regional office listed in Section XIII.

F. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL “Disclosure of Lobbying Activities.” Form CD-512 is intended for the use of recipients and should not be transmitted to DoC. SF-LLL submitted by any tier recipient or subrecipient should be submitted to DoC in accordance with the instructions contained in the award document.

G. No award of Federal funds will be made to an applicant who has an outstanding delinquent Federal debt until either:

1. The delinquent account is paid in full;

2. A negotiated repayment schedule is established and at least one payment is received; or

3. Other arrangements satisfactory to DoC are made.

H. Unsatisfactory performance under prior Federal awards may result in an application not being considered for funding.

I. Applicants should be aware that a false statement on the application is grounds for denial of the application or termination of the grant award and grounds for possible punishment by a fine or imprisonment as provided in 18 U.S.C. 1001.

J. All nonprofit and for-profit applicants are subject to a name check review process (not required for designated Economic Development Districts). Name checks are intended to reveal if any key individuals associated with the applicant have been convicted of, or are presently facing, criminal charges such as fraud, theft, perjury, or other matters which significantly reflect on the applicant's management, honesty or financial integrity.

K. Applicants are hereby notified that any equipment or products authorized to be purchased with funding provided under this program must be American-made to the maximum extent feasible.

L. Applicants seeking an early start, i.e., to begin a project before EDA approval, must obtain a letter from EDA allowing such early start. The letter allowing the early start will be null and void if the project is not subsequently approved for funding by the grants officer. Approval of an early start does not constitute project approval. Applicants should be aware that if they incur any costs prior to an award being made they do so solely at their own risk of not being reimbursed by the Government. Notwithstanding any verbal or written assurance that may have been received, there is no obligation on the part of DoC to cover preaward costs. Additionally, EDA also requires that compliance with environmental regulations, in accordance with the National Environmental Policy Act (NEPA), be completed before construction begins.

M. If an application is selected for funding, EDA has no obligation to provide any additional future funding in connection with an award. Renewal of an award to increase funding or extend the period of performance is at the sole discretion of EDA.

N. Unless otherwise noted below, eligibility, program objectives, application procedures, selection procedures, evaluation criteria and other requirements for all programs are set forth in EDA regulations at 13 CFR Chapter III, (and 65 FR 71022, November 28, 2000).

O. For public works and economic adjustment grants (CFDA No. 11.300 and 11.307 respectively) EDA reviews area eligibility at the time an application is invited and at the time an application is received. This review is based on the most recent Federal data available for the area where the project will be located or where the substantial direct benefits will be received. If no Federal data are available to determine eligibility, an applicant must submit to EDA the most recent data available for the area through the government of the State in which the area is located, i.e., conducted by or at the direction of the State government. Other data may be submitted, as appropriate, to substantiate eligibility based on “special need” (see below). Project areas must be eligible on the date of submission of the application. In the case of any application received by EDA more than six months prior to the time of award, EDA will reevaluate the project to determine that the area remains eligible for EDA assistance before making the award. EDA will reject any documentation of eligibility that it determines is inaccurate.

P. This Notice has been determined to be not significant for purposes of Executive Order 12866.

XII. Special Need Criteria

These criteria are published in accordance with 13 CFR 301.2(h). An area is eligible pursuant to “Special Need” (13 CFR 301.2(b)(3)), if the area meets one of the criteria described below:

A. Substantial out-migration or population loss. Applicants seeking eligibility under this criterion will be asked to present appropriate and compelling economic and/or demographic data to demonstrate the special need.

B. Underemployment, that is, employment of workers at less than full time or at less skilled tasks than their training or abilities permit. Applicants seeking eligibility under this criterion will be asked to present appropriate and compelling economic and/or demographic data to demonstrate the special need.

C. Military base closures or realignments, defense contractor reductions-in-force, or Department of Energy defense-related funding reductions.

1. A military base closure refers to a military base that was closed or is scheduled for closure or realignment pursuant to a Base Realignment and Closure Act (BRAC) process or other Defense Department process. The area is eligible from the date of Defense Department recommendation for closure until five years after the actual date of closing of the installation, provided that the closure recommendation is not sooner canceled.

2. A defense contractor reduction-in-force refers to a defense contractor(s) experiencing defense contract cancellations or reductions resulting from official DoD announcements and having aggregate value of at least $10 million per year. Actual dislocations must have occurred within one year of application to EDA and threatened dislocations must be anticipated to occur within two years of application to EDA. Defense contracts that expire in the normal course of business will not be considered in meeting this criterion.

3. A Department of Energy defense-related funding reduction refers to a Department of Energy facility that has experienced or will experience a reduction of employment resulting from its defense mission change. The area is eligible from the date of the Department of Energy announcement of reductions until five years after the actual date of reduced operations at the installation, provided that the reduction is not sooner canceled.

D. Natural or other major disasters or emergencies. An area that has received one of the following disaster declarations is eligible to apply for EDA assistance for a period of 18 months after the date of declaration, unless further extended by the Assistant Secretary:

1. A Presidential Disaster Declaration pursuant to the Robert T. Stafford Disaster Relief and Emergency Assistance Act, as amended (Pub. L. 93-288), 42 U.S.C. 5121 et.seq), or

2. A Federally Declared Disaster pursuant to the Magnuson-Stevens Fishery Conservation and Management Act, (Pub. L. 94-265) as amended by the Sustainable Fisheries Act (Public Law 104-297), or

3. A Federal Declaration pursuant to the Consolidated Farm and Rural Development Act, as amended (Pub. L. 92-419, 96-438, 97-35, 98-258, 99-198, 100-233, 100-387, and 101-624), or

4. A Federally Declared Disaster pursuant to the Small Business Act, as amended (Pub. L. 85-536).

E. Extraordinary depletion of natural resources. EDA presently recognizes the following conditions of extraordinary natural resource depletion:

1. Fisheries

2. Coal

3. Timber

Assistant Secretary modifications to the above listing of conditions of extraordinary natural resource depletion, as they may occur, will be announced in subsequent public notices.

F. Closure or restructuring of industrial firms, essential to area economies. An area that has experienced closure or restructuring of firms resulting in sudden job losses and meeting the following criteria:

1. For areas over 100,000 population, the actual or threatened dislocation is 500 jobs, or 1 percent of the civilian labor force (CLF), whichever is less.

2. For areas up to 100,000 population, the actual or threatened dislocation is 200 jobs, or 1 percent of the CLF, whichever is less.

Actual dislocations must have occurred within one year of application to EDA and threatened dislocations must be anticipated to occur within two years of application.

G. Local negative impacts of foreign trade. An area certified as eligible by the North American Development Bank (NADBank) Program or the Community Adjustment and Investment Program (CAIP) .

H. Other special need. The area is experiencing other special and/or extraordinary economic adjustment need as determined by the Assistant Secretary.

The applicant will be asked to present appropriate economic or demographic statistics to demonstrate a special need.

XIII. EDA Regional Offices and Economic Development Representatives EDA Regional Offices

William J. Day, Jr., Regional Director, Atlanta Regional Office, 401 West Peachtree Street, NW., Suite 1820, Atlanta, Georgia 30308-3510, Telephone: (404) 730-3002, Fax: (404) 730-3025, Internet Address: wday1@doc.gov

Economic development representatives | States covered
Patterson, Gilbert, 401 West Peachtree Street, NW., Suite 1820, Atlanta, GA 30308, Telephone: (404) 730-3000, Internet Address: gpatterson@doc.gov | Mississippi Georgia
Hunter, Bobby D., 771 Corporate Drive, Suite 200, Lexington, KY 40503-5477, Telephone: (859) 224-7426, Internet Address: bhunter@doc.gov | Kentucky North Carolina (Western)
Dixon, Patricia M., U.S. Department of Commerce-EDA, P.O. Box 1707, Lugoff, SC 29078, Telephone: (803) 408-2513, Internet Address: pdixon@doc.gov | South Carolina North Carolina (Eastern)
Dennis, Bobby, 401 West Peachtree Street, NW., Suite 1820, Atlanta, GA 30308-3510, Telephone: (404) 730-3020, Internet Address: bdennis@doc.gov | Alabama
Taylor, Willie C., 401 West Peachtree Street, NW., Suite 1820, Atlanta, GA 30308-3510, Telephone: (404) 730-3032, Internet Address: wtaylor5@doc.gov | Florida
Reed, Tonia, 401 West Peachtree Street, NW., Suite 1820, Atlanta, Georgia 30308-3510, Telephone: (404) 730-3026, Internet Address: treed@doc.gov | Tennessee

Pedro R. Garza, Regional Director, Austin Regional Office, 327 Congress Avenue, Suite 200, Austin, Texas 78701-4037, Telephone: (512) 381-8144, Fax: (512) 381-8177, Internet Address: pgarza1@doc.gov.

Area directors | States covered
Jacob, Larry, Austin Regional Office, 327 Congress Avenue, Suite 200, Austin, TX 78701-4037, Telephone: (512) 381-8157, Internet Address: ljacob@doc.gov | New Mexico Oklahoma Texas (Northwest)
Frerking, Sharon T., Austin Regional Office, 327 Congress Avenue, Suite 200, Austin, Texas 78701-4037, Telephone: (512) 381-8154, Internet Address: sfrerking@doc.gov | Arkansas Louisiana Texas (Southeast)
Spearman, Sam, 700 West Capital, Room 2509, Little Rock, AR 72201, Telephone: (501) 324-5637, Internet Address: sspearma@doc.gov
Davidson-Ehlers, Pamela, 501 Magazine Street, Room 1025, New Orleans, LA 70130, Telephone: (504) 589-4179, Internet Address: pdavidso@doc.gov

C. Robert Sawyer, Regional Director, Chicago Regional Office, 111 North Canal Street, Suite 855, Chicago, IL 60606, Telephone: (312) 353-7706, Fax: (312) 353-8575, Internet Address: rsawyer@doc.gov

Economic development representatives | States covered
Arnold, John B. III, 104 Federal Building, 515 West First Street, Duluth, MN 55802, Telephone: (1-888) 865-5719 (Illinois), (218) 720-5326 (Minnesota), Internet Address: jarnold@doc.gov | Illinois Minnesota
Hickey, Robert F., Federal Building, Room 740, 200 North High Street, Columbus, Ohio 43215, Telephone: (1-800) 686-2603 (Indiana), (614) 469-7314 (Ohio), Internet Address: rhickey@doc.gov | Ohio Indiana
Peck, John E., P.O. Box 517, Acme, Michigan 49610-0517, Telephone: (231) 938-1712 (Michigan), (1-888) 249-7597 (Wisconsin) Internet Address: jpeck@doc.gov | Michigan Wisconsin

Anthony J. Preite, Regional Director, Denver Regional Office, 1244 Speer Boulevard, Room 670, Denver, Colorado 80204, Telephone: (303) 844-4715, Fax: (303) 844-3968, Internet Address:apreite@doc.gov.

Economic development representatives | States covered
Zender, John P., 1244 Speer Boulevard, Room 632, Denver, CO 80204, Telephone: (303) 844-4902, Internet Address: jzender@doc.gov | Colorado Kansas
Cecil, Robert, Federal Building, Room 823, 210 Walnut Street, Des Moines, IA 50309, Telephone: (515) 284-4746, Internet Address: bcecil@doc.gov | Iowa Nebraska
Hildebrandt, Paul, Federal Building, Room B-2, 608 East Cherry Street, Columbia, MO 65201, Telephone: (573) 442-8084, Internet Address: phildeb1@doc.gov | Missouri
Rogers, John C., Federal Building, Room 196, 301 South Park Ave., Drawer 10074, Helena, MT 59626, Telephone: (406) 441-1175, Internet Address: jrogers6@doc.gov
Jungberg, Cip, Post Office/Courthouse, 102 4th Ave., Room 216, P.O. Box 190, Aberdeen, South Dakota 57401, Telephone: (605) 226-7315, Internet Address: cjungberg@doc.gov | South Dakota North Dakota
Turner, Robert, Chief, Operations Management, 1244 Speer Boulevard, Room 670, Denver, Colorado 80204, Telephone: (303) 844-4474, Internet Address: rturner@doc.gov | Utah

Paul M. Raetsch, Regional Director, Philadelphia Regional Office, Curtis Center, Independence Square West, Suite 140 South, Philadelphia, PA 19106, Telephone: (215) 597-4603, Fax: (215) 597-6669, Internet Address: PRaetsch@doc.gov.

Economic development representatives | States covered
GOOD, William A., Acting, Philadelphia Regional Office, The Curtis Center-Suite 140 South, Independence Square West, Philadelphia, PA 19106, Telephone: (215) 597-0405, Internet Address: wgood@doc.gov | Delaware District of Columbia
AUBE, Michael W., USDOC/EDA, Federal Building, 202 Harlow Street, Suite 232, Bangor, ME 04401-4656 | Connecticut Maine Rhode Island
CRUZ, Ernesto L., IBM Building, Room 602, 654 Munoz Rivera Avenue, Hato Rey, PR 00918-1738, Telephone: (787) 766-5187, Internet Address: ecruz@doc.gov | Puerto Rico Virgin Islands
NOYES, Neal E., Room 474, 400 North 8th Street, P.O. Box 10229, Richmond, VA 23240-1001, Telephone: (804) 771-2061, Internet Address: nnoyes@doc.gov | Virginia Maryland
DAVIS, R. Byron, 405 Capital Street, Room 411, Charleston, WV 25301-1727, Telephone: (304) 347-5252, Internet Address: bdavis3@doc.gov | West Virginia

A. Leonard Smith, Regional Director, Seattle Regional Office, Jackson Federal Building, Room 1856, 915 Second Avenue, Seattle, Washington 98174, Telephone: (206) 220-7660, Fax: (206) 220-7669, Internet Address: LSmith7@doc.gov.

Economic development representatives | States covered
Richert, Bernhard E. Jr., 550 West 7th Avenue, Suite 1780, Anchorage, AK 99501-7594, Telephone: (907) 271-2272, Internet Address: brichert@doc.gov | Alaska
Sosson, Deena R., 801 I Street, Suite 411, Sacramento, CA 95814, Telephone: (916) 498-5285, Internet Address: dsosson@doc.gov | California (Central)
Church, Dianne V., 280 South First St., #135-B, San Jose, CA 95113, Telephone: (408) 535-5550, Internet Address: dchurch@doc.gov | California (Central Coastal)
Fujita, Gail S., 300 Ala Moana Blvd., Federal Building, Room 4106, Honolulu, HI 96850, Telephone: (808) 541-3391, Internet Address: gfugita@doc.gov | Hawaii, Guam, American Samoa Marshall Islands Micronesia Northern Marianas Republic of Palau
Ames, Aldred F., Borah Federal Building, Room 146, 304 North 8th Street, Boise, ID 83702, Telephone: (208) 334-1521 (Idaho), (1-888) 693-1370 (Nevada), Internet Address: aames@doc.gov | Idaho Nevada
Berblinger, Anne S., One World Trade Center, 121 S.W. Salmon Street, Suite 244, Portland, OR 97204, Telephone: (503) 326-3078, Internet Address: aberblin@doc.gov | Oregon California (Northern)
Marshall, Wilfred, 5777 West Century Blvd., Suite 1675, Los Angeles, CA 90045, Telephone: (310) 348-5386, Internet Address: wmarshall@doc.gov | California (Southern)
Kirry, Lloyd P., Seattle Regional Office, Jackson Federal Building, 915 Second Avenue, Room 1856, Seattle, WA 98174, Telephone: (206) 220-7682, Internet Address: lkirry@doc.gov | Washington
Macias, Jacob (Acting), Seattle Regional Office, Jackson Federal Building, 915 Second Avenue, Room 1856, Seattle, WA 98174, Telephone: (206) 220-7666, Internet Address: jmacias@doc.gov | Arizona

For general information on EDA contact the appropriate Regional Office listed above or EDA's Office of Congressional Liaison and Program Research and Evaluation: Economic Development Administration, Room 7814A, U.S. Department of Commerce, Washington, DC 20230, Telephone: (202) 482-2309, EDA Web site www.doc.gov/eda.

Dated: March 8, 2001.
Mary C. Pleffner,
Acting Assistant Secretary for Economic Development.

[FR Doc. 01-6247 Filed 3-13-01; 8:45 am]

BILLING CODE 3510-24-P